DEPARTMENT OF VETERANS AFFAIRS

VA National Academic Affiliations Council, Notice of meeting

The Department of Veterans Affairs (VA) gives notice under Public Law 92-463 (Federal Advisory Committee Act) that the second meeting of the National Academic Affiliations Council will be held on June 5-6, 2012, in Suite 878 at 1800 G Street NW., Suite 878, Washington, DC. The sessions will begin at 8 a.m. each day and adjourn at 5 p.m. on June 5 and at 1 p.m. on June 6.

The purpose of the Council is to advise the Secretary on matters affecting partnerships between VA and its academic affiliates.

On June 5, the Council will review the status of recommendations from its inaugural meeting on February 8-9, 2012; receive a briefing on Veteran demographics and Veterans Health Administration's (VHA) strategic planning activities; and discuss opportunities and challenges in academic affiliation relationships identified by the Blue Ribbon Panel on VA-Medical School Affiliations, with an emphasis on the impact of security procedures on health professions trainees. On June 6, the Council will hear from officials of the VHA Office of Research and Development and continue its discussion of opportunities and challenges in academic affiliation relationships identified by the Blue Ribbon Panel on VA-Medical School Affiliations, with an emphasis on research collaboration. The Council will receive public comments from 12:30 to 1 p.m.

Interested persons may attend and present oral statements to the Council. Oral presentations will be limited to 5 minutes or less, depending on the number of participants. A sign-in sheet for those who want to give comments will be available at the meeting. Individuals who speak are invited to submit a 1-2 page summary of their comments at the time of the meeting for inclusion in the official meeting record. Interested parties may also provide written comments for review by the Council to Gloria J. Holland, Ph.D., Special Assistant for Policy and Planning, Office of Academic Affiliations (10A2D), 810 Vermont Avenue NW., Washington, DC 20420, or by email to Gloria.Holland@va.gov. Any member of the public wishing to attend or seeking additional information should contact Dr. Holland by email or by phone at (202) 461-9490.

Dated: May 15, 2012.
By Direction of the Secretary.
Vivian Drake,
Committee Management Officer.

[FR Doc. 2012-12183 Filed 5-18-12; 8:45 am]

BILLING CODE P